DEPARTMENT OF VETERANS AFFAIRS

38 CFR Part 3

RIN 2900-AQ26

VA Claims and Appeals Modernization; Correction

AGENCY: Department of Veterans Affairs.

ACTION: Correcting amendment.

SUMMARY: The Department of Veterans Affairs (VA) is correcting a final rule regarding its claims adjudication, appeals and Rules of Practice of the Board of Veterans' Appeals (Board) regulation. This correction addresses a minor technical error in the published final rule.

DATES: Effective on October 9, 2019.

FOR FURTHER INFORMATION CONTACT: Veterans Benefits Administration information, Cleveland Karren, Chief, Appeals Management Office, Department of Veterans Affairs, 810 Vermont Avenue NW, Washington, DC 20420, (202) 530-9033 (this is not a toll-free number).

SUPPLEMENTARY INFORMATION: Due to a technical error, VA is correcting its final rule, VA Claims and Appeals Modernization, that was initially published January 18, 2019 in the Federal Register at 84 FR 138 and later amended on February 15, 2019 in the Federal Register at 84 FR 4336.

List of Subjects in 38 CFR Part 3

Administrative practice and procedure, Claims, Disability benefits, Health care, Pensions, Radioactive materials, Veterans.

Therefore, 38 CFR part 3 is corrected by making the following correcting amendment:

PART 3—ADJUDICATION

Subpart D—Universal Adjudication Rules That Apply to Benefit Claims Governed by Part 3 of This Title

1. The authority citation for subpart D of part 3 continues to read as follows:

Authority: 38 U.S.C. 501(a), unless otherwise noted.

§ 3.2500 [Amended]

2. Amend § 3.2500(c) introductory text by removing “entry of judgment”.

Dated: October 1, 2019.
Jeffrey M. Martin,
Assistant Director, Office of Regulation Policy & Management, Office of the Secretary, Department of Veterans Affairs.

[FR Doc. 2019-21752 Filed 10-8-19; 8:45 am]

BILLING CODE 8320-01-P